FEDERAL MARITIME COMMISSION

Ocean Transportation Intermediary License; Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/Address | Date reissued
004299N | CNC Shipping International Inc., 7774 NW., 71st Street Miami, FL 33166 | March 9, 2008.
011170N | Sage Freight System Inc. dba Sage Container Lines, 182-30 150th Road, #108 Jamaica, NY 11413 | March 5, 2008.

Sandra L. Kusumoto,
Director, Bureau of Certification and Licensing.

[FR Doc. E8-8808 Filed 4-22-08; 8:45 am]

BILLING CODE 6730-01-P